DEPARTMENT OF THE TREASURY

Submission for OMB Review; Comment Request

January 23, 2014.

The Department of the Treasury will submit the following information collection requests to the Office of Management and Budget (OMB) for review and clearance in accordance with the Paperwork Reduction Act of 1995, Public Law 104-13, on or after the date of publication of this notice.

DATES: Comments should be received on or before February 28, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-NEW.

Type of Review: New collection.

Title: Declaration and Signature for Electronic Filing of Forms 8947 and 8963.

Form: 8453-R.

Abstract: This is a new form established under Section 9010 of the Patient Protection and Affordable Care Act (PPACA), Public Law 111-148 (124 Stat. 119 (2010)), as amended by section 10905 of PPACA, and as further amended by section 1406 of the Health Care and Education Reconciliation Act of 2010, Public Law 111-152 (124 Stat. 1029 (2010)), which requires that any covered entity engaged in the business of providing health insurance related to United States health risks must annually report its net premiums written. The purpose of the Form 8453-R to authenticate the electronic filing of Form 8947, Report of Branded Prescription Drug Information, and Form 8963, Report of Health Insurance Provider Information.

Affected Public: Private Sector: Businesses or other for-profits, Farms, Not-for-profit institutions.

Estimated Annual Burden Hours: 4,131.

OMB Number: 1545-2249.

Type of Review: Revision of a currently approved collection.

Title: Health Insurance Providers Fee.

Form: 8963.

Abstract: The Affordable Care Act imposes an annual fee on health insurance providers that provide health insurance for United States health risks (a covered entity). Rules which implement the Affordable Care Act, describe how the IRS will administer the health insurance providers fee. Recordkeeping requirements prescribed in § 57.2(e)(2) that each member of a controlled group are to maintain records of consent to the controlled group's selection of the designated entity. Reporting requirements through Form 8963, “Report of Health Insurance Provider Information,” is used report net premiums written for health insurance of United States health risks. The information reported will be used by the IRS to calculate the annual fee on health insurance providers.

Affected Public: Private Sector: Businesses or other for-profits, Farms, Not-for-profit institutions.

Estimated Annual Burden Hours: 17,808.

Dawn D. Wolfgang,
Treasury PRA Clearance Officer.

[FR Doc. 2014-01638 Filed 1-28-14; 8:45 am]

BILLING CODE 4830-01-P